Title 3—

The President

Proclamation 7644 of January 30, 2003

American Heart Month, 2003

By the President of the United States of America

A Proclamation

Advances in medical research have significantly improved our capacity to fight heart disease by providing greater knowledge about its causes, more innovative diagnostic tools to detect and counter it, and new and improved treatments that help people survive and recover from it. Despite these advances, heart disease continues to be America's number one killer. During American Heart Month, we renew our commitment to fighting cardiovascular disease by encouraging our citizens to learn more about its risk factors, its various warning signs, and life-saving emergency response techniques.

Heart attacks result when the blood supply to part of the heart muscle is severely reduced or stopped. Because many heart attack victims do not recognize the warning signs until it is too late, only one in five is able to reach a hospital quickly enough to benefit fully from treatments. To help Americans survive heart attacks, the National Heart, Lung, and Blood Institute (NHLBI), which is part of the National Institutes of Health, has joined with the American Heart Association (AHA) and other national organizations to create a major educational campaign, called “Act in Time to Heart Attack Signs.” This campaign encourages Americans to learn the warning signs of a heart attack and to call 911 within minutes—five at most—of the start of symptoms. The campaign also offers educational materials for both the general public and healthcare professionals to encourage communication among doctors, other healthcare providers, and their patients about the importance of recognizing heart attack signs and getting treatment quickly.

Far too many Americans are also unaware of the dangers of cardiac arrest, in which the heart suddenly loses its ability to function. Most cases of cardiac arrest that result in sudden death occur when the diseased heart's electrical impulses become rapid and then chaotic. About 95 percent of sudden cardiac arrest victims die before reaching the hospital. However, if treated within a few minutes, cardiac arrest can be reversed through defibrillation, an electric shock that allows the heart to resume a normal beat.

Research has shown that early cardiopulmonary resuscitation (CPR) and rapid defibrillation, combined with early advanced care, can produce long-term survival rates of 40 percent where a cardiac arrest has been witnessed by a bystander. The AHA has developed a nationwide educational campaign called “Operation Heartbeat,” to increase public awareness about cardiac arrest. “Operation Heartbeat” is educating the public about the warning signs of cardiac arrest, the importance of calling 911 immediately, and the benefits of administering CPR until defibrillation can be given.

When Americans take personal steps to improve their health, our whole society benefits. By developing good eating habits, being physically active, taking advantage of preventive screenings, and avoiding drugs, tobacco, and excessive use of alcohol, individuals and families can significantly reduce the onset and burden of heart disease. In promoting new education programs, supporting research, expanding access to life-saving tools, and encouraging our citizens to learn more about cardiovascular disease and lead healthy lifestyles, we can save lives.

In recognition of the important ongoing fight against cardiovascular disease, the Congress, by Joint Resolution approved December 30, 1963, as amended (77 Stat. 843; 36 U.S.C. 101), has requested that the President issue an annual proclamation designating February as “American Heart Month.”

NOW, THEREFORE, I, GEORGE W. BUSH, President of the United States of America, do hereby proclaim February 2003 as American Heart Month. I invite the Governors of the States, the Commonwealth of Puerto Rico, officials of other areas subject to the jurisdiction of the United States, and the American people to join me in reaffirming our commitment to combating cardiovascular disease.

IN WITNESS WHEREOF, I have hereunto set my hand this thirtieth day of January, in the year of our Lord two thousand three, and of the Independence of the United States of America the two hundred and twenty-seventh.

B

[FR Doc. 03-3047

Filed 2-4-03; 11:04 am]

Billing code 3195-01-P